FEDERAL DEPOSIT INSURANCE CORPORATION

Agency Information Collection Activities: Proposed Information Collection; Comment Request

AGENCY: Federal Deposit Insurance Corporation (FDIC).

ACTION: Notice and request for comment.

SUMMARY: The FDIC, as part of its continuing effort to reduce paperwork and respondent burden, invites the general public and other Federal agencies to comment on a proposed new collection of information, as required by the Paperwork Reduction Act of 1995 (44 U.S.C. chapter 35). The collection is related to a mandate under section 7 of the Federal Deposit Insurance Reform Conforming Amendments Act of 2005 (“Reform Act”) (Pub. L. 109-173), which calls for the FDIC to conduct ongoing surveys “on efforts by insured depository institutions to bring those individuals and families who have rarely, if ever, held a checking account, a savings account or other type of transaction or check cashing account at an insured depository institution (hereafter in this section referred to as the ‘unbanked’) into the conventional finance system.” Section 7 further instructs the FDIC to consider several factors in its conduct of the surveys, including: (1) “What cultural, language and identification issues as well as transaction costs appear to most prevent `unbanked' individuals from establishing conventional accounts”; and (2) “what is a fair estimate of the size and worth of the `unbanked' market in the United States.” To satisfy the Congressional mandate, the FDIC intends to conduct two complementary surveys. One is a survey of FDIC-insured depository institutions on their efforts to serve underbanked, as well as unbanked, populations (underbanked populations include individuals who have an account with an insured depository but also rely on non-bank alternative financial service providers for transaction services or high-cost credit products). The FDIC has already obtained OMB approval for this survey and the survey effort is currently in process. The other is a survey of U.S. households to estimate the size and worth of the unbanked and underbanked markets and to identify the factors that inhibit their participation in the mainstream banking system. The household survey would be conducted for the FDIC by the U.S. Bureau of the Census, as a supplement to its monthly Current Population Survey (CPS) in January 2009. This notice addresses the household survey.

DATES: Comments must be submitted on or before July 18, 2008.

ADDRESSES: Interested parties are invited to submit written comments by any of the following methods. All comments should refer to “National Unbanked and Underbanked Household Survey”:

• http://www.FDIC.gov/regulations/laws/federal/.

• E-mail: comments@fdic.gov. Include the name and number of the collection in the subject line of the message.

• Mail: Leneta Gregorie (202-898-3719), Counsel, Legal Division, Federal Deposit Insurance Corporation, 550 17th Street, NW., Washington, DC 20429.

• Hand Delivery: Comments may be hand-delivered to the guard station at the rear of the 550 17th Street Building (located on F Street), on business days between 7 a.m. and 5 p.m.

FOR FURTHER INFORMATION CONTACT: Interested members of the public may obtain a copy of the survey and related instructions by clicking on the link for the National Unbanked and Underbanked Household Survey on the following Web page: http://www.fdic.gov/regulations/laws/federal/index.html. Interested members of the public may also obtain additional information about the collection, including a paper copy of the proposed collection and related instructions, without charge, by contacting Leneta Gregorie at the address identified above, or by calling (202) 898-3719.

SUPPLEMENTARY INFORMATION: The FDIC proposes to establish the following collection of information:

Title: National Unbanked and Underbanked Household Survey.

OMB Number: New collection.

Frequency of Response: Once.

Affected Public: U.S. households.

Estimated Number of Respondents: 54,000.

Average Time per Response: 10 minutes (0.166 hours) per respondent.

Estimated Total Annual Burden: 0.166 hours ×54,000 respondents = 8,964 hours.

General Description of Collection

This collection is related to a mandate under section 7 of the Federal Deposit Insurance Reform Conforming Amendments Act of 2005 (“Reform Act”) (Pub. L. 109-173), which calls for the FDIC to conduct ongoing surveys “on efforts by insured depository institutions to bring those individuals and families who have rarely, if ever, held a checking account, a savings account or other type of transaction or check cashing account at an insured depository institution (hereafter in this section referred to as the `unbanked') into the conventional finance system.” The Congressional mandate further requires the FDIC to conduct ongoing surveys to, among other things, estimate the size and worth of the unbanked market in the United States and to identify the cultural, language and identification issues as well as transaction costs that appear to most prevent unbanked individuals from establishing accounts with insured depository institutions. To satisfy the Congressional mandate, the FDIC has proposed conducting two complementary surveys related to unbanked and underbanked consumers (underbanked consumers include individuals who have an account with an insured depository institution, but also rely on non-bank alternative financial service providers for transaction services or high-cost credit products). The first survey effort, which has already obtained OMB approval and is currently underway, is a survey of FDIC-insured depository institutions on their efforts to serve unbanked and underbanked consumers.

The second survey effort, which is the subject of this notice, would be a national survey of U.S. households to estimate the size and worth of the unbanked and underbanked markets and to identify the barriers households perceive when deciding how and where to conduct financial transactions.

To obtain the information required by the Reform Act related to unbanked and underbanked households, for this survey effort the FDIC proposes to partner with the U.S. Census Bureau to conduct a survey of U.S. households as a supplement to Census' CPS in January 2009. The supplement would be administered to households that participate in the CPS and would be 10 minutes in length, on average.

The FDIC supplement to the Census survey is designed to yield significant new data on the numbers and demographic characteristics of unbanked and underbanked households, as well as the barriers they perceive when deciding how and where to conduct financial transactions. Currently, there is a lack of basic data on the number of unbanked and underbanked households in the U.S. and on the factors that may promote or hinder access to the mainstream financial system . This will be the first survey of its kind on this topic to be conducted at the national level and results will also be reportable at the state level. The results will help policymakers and the industry better understand the extent to which U.S. households are financially underserved, the reasons why U.S. households may be financially underserved, and the opportunities that exist to better serve them.

Request for Comment

Comments are invited on: (a) Whether the collection of information is necessary for the proper performance of the FDIC's functions, including whether the information has practical utility; (b) the accuracy of the estimates of the burden of the information collection; (c) ways to enhance the quality, utility, and clarity of the information to be collected; and (d) ways to minimize the burden of the information collection on respondents, including through the use of automated collection techniques or other forms of information technology.

The FDIC will consider all comments to determine the extent to which the proposed information collection should be modified prior to submission to OMB for review and approval. After the comment period closes, comments will be summarized or included in the FDIC's request to OMB for approval of the collection. All comments will become a matter of public record.

Dated at Washington, DC, this 13th day of May, 2008.
Federal Deposit Insurance Corporation.
Valerie J. Best,
Assistant Executive Secretary.

[FR Doc. E8-11072 Filed 5-16-08; 8:45 am]

BILLING CODE 6714-01-P